DEPARTMENT OF STATE

[Public Notice 8215]

Culturally Significant Objects Imported for Exhibition Determinations: “Sicily: Art and Invention Between Greece and Rome”

ACTION: Notice, correction.

SUMMARY: On September 5, 2012, notice was published on page 54647 of the Federal Register (volume 77, number 172) of determinations made by the Department of State pertaining to the exhibit “Sicily: Art and Invention Between Greece and Rome.” The referenced notice is corrected to accommodate additional objects to be included in the exhibition. Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the additional objects to be included in the exhibition “Sicily: Art and Invention Between Greece and Rome,” imported from abroad for temporary exhibition within the United States, are of cultural significance. The additional objects are imported pursuant to a loan agreement with the foreign owner or custodian. I also determine that the exhibition or display of the additional exhibit objects at The J. Paul Getty Museum in Los Angeles, California from on or about April 3, 2013, until on or about August 19, 2013, at the Cleveland Museum of Art in Cleveland, Ohio from September 29, 2013 to January 5, 2014, and at possible additional exhibitions or venues yet to be determined, is in the national interest. I have ordered that Public Notice of these Determinations be published in the Federal Register.

FOR FURTHER INFORMATION CONTACT: For further information, including a list of the additional exhibit objects, contact Ona M. Hahs, Attorney-Adviser, Office of the Legal Adviser, U.S. Department of State (telephone: 202-632-6473). The mailing address is U.S. Department of State, SA-5, L/PD, Fifth Floor (Suite 5H03), Washington, DC 20522-0505.

Dated: February 26, 2013.
J. Adam Ereli,
Principal Deputy Assistant Secretary, Bureau of Educational and Cultural Affairs, Department of State.

[FR Doc. 2013-05216 Filed 3-5-13; 8:45 am]

BILLING CODE 4710-05-P